DEPARTMENT OF AGRICULTURE

Office of Advocacy and Outreach; Advisory Committee on Minority Farmers; Notice of Meeting

AGENCY: Office of Advocacy and Outreach, USDA.

ACTION: Notice of public meeting.

SUMMARY: This notice announces a forthcoming meeting of a public advisory committee of the Office of Advocacy and Outreach (OAO). Notice of the meetings are provided in accordance with section 10(a)(2) of the Federal Advisory Committee Act, as amended, (5 U.S.C. Appendix 2). This meeting will be open to the public.

As required by the Federal Advisory Committee Act, as amended, the OAO announces a public meeting of the Advisory Committee on Minority Farmers (Committee) to advise the Secretary of Agriculture on: (1) The implementation of section 2501 of the Food, Agriculture, Conservation, and Trade Act of 1990, as amended, 7 U.S.C. 2279; (2) methods of maximizing the participation of minority farmers and ranchers in Department of Agriculture programs; and (3) civil rights activities within the Department as such activities relate to participants in such programs.

DATES: The meeting will be held on August 11, 2011, and August 12, 2011, from 8 a.m. to 5 p.m. and 8 a.m. to 12 p.m., respectively. The meeting will be open to the public for public comment on August 11, 2011, from 9 a.m. to 12 p.m.

ADDRESSES: The meeting will be held at the Crowne Plaza, 300 North Second Street, Memphis, TN 38105. The hotel's telephone number is 901 525-1800. Written comments may be submitted to: Henry Searcy, Jr., Designated Federal Officer, OAO, 1400 Independence Ave., SW., Whitten Bldg., 520-A, Washington, DC 20250, 202-692-4119.

FOR FURTHER INFORMATION CONTACT: Questions should be directed to Phyllis Morgan, Executive Assistant, OAO, 1400 Independence Ave., SW., Whitten Bldg., 520-A, Washington, DC 20250, 202-692-4119, Fax: 202-720-7136 e-mail: Phyllis.Morgan@osec.usda.gov.

SUPPLEMENTARY INFORMATION: The Committee was established pursuant to section 14008 of the Food Conservation, and Energy Act of 2008, Public Law 110-246, 122 Stat. 1651, 2208. The Secretary of Agriculture selected a diverse group of members representing a broad spectrum of persons interested in providing solutions to the challenges of the aforementioned agenda topics (1), (2) and (3). Equal opportunity practices were considered in all appointments to the Committee in accordance with USDA policies. The Secretary selected the members in January 2011.

On August 11, 2011, from 9 a.m. to 12 p.m., there will be an opportunity for public comments. Interested persons may present views, orally or in writing, on issues relating to the above agenda topics (1), (2) and (3) before the committee. Written submissions may be submitted to the contact person on or before August 1, 2011. Oral presentations from the public will be scheduled between approximately 9 a.m. to 12 p.m. Those individuals interested in making formal oral presentations should notify the contact person and submit a brief statement of the general nature of the issue they wish to present and the names and addresses of proposed participants. (All oral presentations will be given three minutes. If the number of registrants requesting to speak is greater than what can be reasonably accommodated during the scheduled open public hearing session timeframe, OAO may conduct a lottery to determine the speakers for the scheduled open public hearing session.) The contact person will notify interested persons regarding their request to speak by August 5, 2011.

OAO will make all agenda topics available to the public via the OAO Web site (http://www.outreach.usda.gov/oasdfr) no later than 10 business days before the meeting and at the meeting. OAO welcomes the attendance of the public at its advisory committee meetings and will make every effort to accommodate persons with physical disabilities or special needs. If you require special accommodations due to a disability, please contact Phyllis Morgan at least 7 days in advance of the meeting. OAO is committed to the orderly conduct of the advisory committee meeting. Please visit our Web site at http://www.outreach.usda.gov/oasdfr for procedures on public conduct during the advisory committee meeting.

Walt Douglas,
Director, Office of Advocacy and Outreach.

[FR Doc. 2011-19172 Filed 7-27-11; 8:45 am]

BILLING CODE P